DEPARTMENT OF TRANSPORTATION

Federal Motor Carrier Safety Administration

[FMCSA Docket No. FMCSA-2006-25756]

Commercial Driver's License (CDL) Standards; Volvo Trucks North America, Renewal of Exemption

AGENCY: Federal Motor Carrier Safety Administration (FMCSA), DOT.

ACTION: Notice of final disposition.

SUMMARY: FMCSA announces its final decision regarding Volvo Trucks North America's (Volvo) application for an exemption for Andreas Hamsten to enable him to continue to test-drive commercial motor vehicles (CMVs) in the United States without a commercial driver's license (CDL) issued by one of the States. FMCSA previously announced its decision to renew the exemption and requested comment on the decision. No comments were received.

DATES: This exemption is effective from June 18, 2010 through June 18, 2012.

FOR FURTHER INFORMATION CONTACT: Ms. Christine Hydock, FMCSA Driver and Carrier Operations Division, Office of Bus and Truck Standards and Operations, Telephone: 202-366-4325. E-mail: MCPSD@dot.gov.

SUPPLEMENTARY INFORMATION:

Background

Under 49 U.S.C. 31136(e) and 31315, FMCSA may renew an exemption, including an exemption from the CDL requirements of 49 CFR 383.23, for a maximum 2-year period if it finds “such exemption would likely achieve a level of safety that is equivalent to, or greater than, the level that would be achieved absent such exemption.” The procedures for requesting an exemption (including renewals) are prescribed in 49 CFR part 381. FMCSA evaluated Volvo's application on its merits and decided to renew Andreas Hamsten's exemption for a two-year period, effective June 18, 2010, as previously announced in the Federal Register (75 FR 45198, August 2, 2010).

Comments

In the August 2 notice, FMCSA requested public comment on the renewal; the Agency received no comments.

Terms and Conditions for the Exemption

Based upon its evaluation of the application for an exemption, FMCSA granted Volvo a renewal of the exemption from the Federal CDL requirement in 49 CFR 383.23 for a period of 2 years from June 18, 2010 through June 18, 2012, for Andreas Hamsten to test-drive CMVs within the U.S. Mr. Hamsten's exemption is renewed subject to the following terms and conditions: (1) This exemption is valid only when Mr. Hamsten is acting within the scope of his employment by Volvo; (2) He and Volvo must adhere to drug and alcohol regulations, including testing, as provided by in 49 CFR part 382; (3) He and Volvo must adhere to driver disqualification rules under 49 CFR parts 383 and 391 that apply to other CMV drivers in the United States; (4) He is subject to all other provisions of the Federal Motor Carrier Safety Regulations (FMCSRs) (49 CFR 390-397) unless specifically exempted herein; (5) He must keep a copy of the exemption in the vehicle at all times for presentation to a duly authorized Federal, State, or local enforcement official; (6) Volvo must notify FMCSA in writing of any accident, as defined in 49 CFR 390.5, involving this exempted driver; and (7) Volvo must notify FMCSA in writing if this driver is convicted of a disqualifying offense described in sections 383.51 or 391.15 of the FMCSRs.

This exemption will be valid for 2 years unless rescinded earlier by FMCSA. Mr. Hamsten's exemption will be rescinded if: (1) He fails to comply with the terms and conditions of the exemption; (2) The exemption has resulted in a lower level of safety than was maintained before it was granted; or (3) Continuation of the exemption would not be consistent with the goals and objectives of 49 U.S.C. 31136(e) and 31315.

Issued on: January 5, 2011.
Larry W. Minor,
Associate Administrator for Policy.

[FR Doc. 2011-1485 Filed 1-24-11; 8:45 am]

BILLING CODE 4910-EX-P